DEPARTMENT OF JUSTICE

Notice of Lodging of Consent Decree Under the Comprehensive Environmental Response, Compensation, and Liability Act

Notice is hereby given that on July 25, 2008, a proposed Consent Decree in United States and State of Texas v. Beazer East, Inc., Civil Action No. 5:08-CV-00132, was lodged with the United States District Court for the Eastern District of Texas.

In this action the United States, on behalf of the United States Department of the Interior, and the State of Texas, on behalf of the Texas Commission on Environmental Quality (“TCEQ”), the Texas Parks and Wildlife Department (“TPWD”), and the Texas General Land Office (“TGLO”) (collectively, the “State”), as federal and state trustees over natural resources, sought, pursuant to Section 107(a)(4)(C) of the Comprehensive Environmental Response, Compensation and Liability Act (“CERCLA”), 42 U.S.C. 9607(a)(4)(C), and Section 311(f) of the Clean Water Act (“CWA”), 33 U.S.C. 1321(f), to recover damages for injury to, loss of, or destruction of natural resources as a result of releases and threatened release of hazardous substances into the environment at or from the Koppers Texarkana Superfund Site, including the recovery of the costs of assessing such injury and damages and the future costs of overseeing and monitoring restoration actions. The Koppers Site is a former wood treatment facility located approximately one mile west of downtown Texarkana, Bowie County, Texas.

The proposed Consent Decree resolves the liability of Beazer East, Inc. for damages for injury to, loss of, or destruction of natural resources as alleged in the Complaint. Under the terms of the Consent Decree, and in accordance with the restoration project selected in the Final Amended Restoration Plan and Environmental Assessment, Beazer will provide for the recordation of a Conservation Easement on 76.708 acres of bottomland hardwoods within the Lennox Woods Preserve in Red River County. Additionally, Beazer has paid the trustees' past assessment costs and will pay the trustees' future costs related to the restoration project.

The Department of Justice will receive for a period of thirty (30) days from the date of this publication comments relating to the Consent Decree. Comments should be addressed to the Assistant Attorney General for the Environment and Natural Resources Division, U.S. Department of Justice, and either e-mailed to pubcomment-ees.enrd@usdoj.gov or mailed to P.O. Box 7611, NW., Washington, DC 20044-7611, and should refer to United States and State of Texas v. Beazer East, Inc., D.J. Ref. 90-11-3-07668.

The Consent Decree may be examined at the Office of the United States Attorney, Eastern District of Texas, 350 Magnolia Street, Suite 150, Beaumont, Texas, 77701-2237, and at the offices of the U.S. Fish and Wildlife Service, Ecological Services Field Office, 711 Stadium Dr., Suite 252, Arlington, TX 76011. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $28.50 for the Consent Decree and attachments, or $9.75 for the Consent Decree only (25 cents per page reproduction cost) payable to the U.S. Treasury or, if by e-mail or fax, forward a check in that amount to the Consent Decree Library at the stated address.

Maureen M. Katz,
Assistant Section Chief, Environmental Enforcement Section, Environment and Natural Resources Division.

[FR Doc. E8-18716 Filed 8-12-08; 8:45 am]

BILLING CODE 4410-15-P